DEPARTMENT OF TRANSPORTATION

Federal Highway Administration

Notice of Final Federal Agency Action on the I-10 Mobile River Bridge and Bayway Project in Alabama

AGENCY: Federal Highway Administration (FHWA), Department of Transportation (DOT).

ACTION: Notice of Limitation on Claims for Judicial Review of Actions by FHWA.

SUMMARY: This notice announces actions taken by the FHWA that are final. The action relates to the proposed project to increase the capacity of Interstate Route 10 (I-10) by constructing a new six-lane bridge across the Mobile River and replacing the existing four-lane I-10 bridges across Mobile Bay with eight lanes above the 100-year storm elevation. The proposed project is located in Mobile and Baldwin Counties, Alabama. Those actions grant approvals for the project.

DATES: By this notice, the FHWA is advising the public of final agency actions subject to 23 U.S.C. 139(l)(1). A claim seeking judicial review of the Federal agency actions on the project will be barred unless the claim is filed on or before January 27, 2020. If the Federal law that authorizes judicial review of a claim provides a time period of less than 150 days for filing such claim, then that shorter time period still applies.

FOR FURTHER INFORMATION CONTACT: Mark D. Bartlett, Division Administrator, FHWA Alabama Division, 9500 Wynlakes Place, Montgomery, Alabama 36117-8515, Telephone: (334) 274-6350, Email:Mark.Bartlett@dot.gov. The FHWA Alabama Division Office's normal business hours are 8:00 a.m. to 4:30 p.m. (Central Standard Time). You may also contact Matt J. Ericksen, Southwest Region Engineer, Alabama Department of Transportation, 1701 I-65 West Service Road North, Mobile, Alabama 36618, Telephone: (251) 470-8200, Email: ericksenm@dot.state.al.us. The Alabama Department of Transportation's normal business hours are 8:00 a.m. to 5:00 p.m.

SUPPLEMENTARY INFORMATION: Notice is hereby given that FHWA has taken final agency actions subject to 23 U.S.C. 139(l)(1) by issuing a Record of Decision (ROD) for the following highway project in the State of Alabama: I-10 Mobile River Bridge and Bayway Project in Mobile and Baldwin Counties. The proposed project to increase the capacity of Interstate Route 10 (I-10) by constructing a new six-lane bridge across the Mobile River and replacing the existing four-lane I-10 bridges across Mobile Bay with eight lanes above the 100-year storm elevation. The actions taken by FHWA, and the laws under which such actions were taken, are described in the Combined Final Environmental Impact Statement (FEIS) and ROD approved on August 15, 2019, and in other documents in the project records. The Combined FEIS and ROD and other project records can be viewed on the project's website at: www.mobileriverbridge.com. These documents and other project records are also available by contacting FHWA or the Alabama Department of Transportation at the phone numbers and addresses listed above.

This notice applies to all Federal agency decisions as of the issuance date of this notice and all laws under which such actions were taken, including but not limited to:

1. General: National Environmental Policy Act (NEPA) [42 U.S.C. 4321-4351]; Federal-Aid Highway Act (FAHA) [23 U.S.C. 109 and 23 U.S.C. 128].

2. Air: Clean Air Act [42 U.S.C. 7401-7671(q)].

3. Land: Section 4(f) of the Department of Transportation Act of 1966 [49 U.S.C. 303 and 23 U.S.C. 138].

4. Wildlife: Endangered Species Act [16 U.S.C. 1531-1544 and Section 1536]; Marine Mammal Protection Act [16 U.S.C. 1361-1423h]; Fish and Wildlife Coordination Act [16 U.S.C. 661-667(d)]; Migratory Bird Treaty Act [16 U.S.C. 703-712]; Magnuson-Stevens Fishery Conservation and Management Act of 1976, as amended [16 U.S.C. 1801 et seq.].

5. Historic and Cultural Resources: Section 106 of the National Historic Preservation Act of 1966, as amended [16 U.S.C. 470(f) et seq.]; Archeological Resources Protection Act of 1977 [16 U.S.C. 470aa-470mm]; Archeological and Historic Preservation Act [16 U.S.C. 469-469c]; Native American Grave Protection and Repatriation Act (NAGPRA) [25 U.S.C. 3001-3013].

6. Social and Economic: Civil Rights Act of 1964 [42 U.S.C. 2000(d)-2000(d)(1)]; Farmland Protection Policy Act (FPPA) [7 U.S.C. 4201-4209]; Uniform Relocation Assistance and Real Property Acquisition Act [42 U.S.C. 4601 et seq.].

7. Noise: 23 U.S.C. 109(i).

8. Hazardous Materials: Comprehensive Environmental Response, Compensation, and Liability Act (CERCLA) [42 U.S.C. 9601 et seq.].

9. Executive Orders: E.O. 11990 Protection of Wetlands; E.O. 11988 Floodplain Management; E.O. 12898, Federal Actions to Address Environmental Justice in Minority Populations and Low-Income Populations; E.O. 11593 Protection and Enhancement of Cultural Resources; E.O. 13287 Preserve America; E.O. 13175 Consultation and Coordination with Indian Tribal Governments; E.O. 13112 Invasive Species; E.O. 13186 Responsibilities of Federal Agencies to Protect Migratory Birds.

(Catalog of Federal Domestic Assistance Program Number 20.205, Highway Planning and Construction. The regulations implementing Executive Order 12372 regarding intergovernmental consultation on Federal programs and activities apply to this program.)

Authority: 23 U.S.C. 139(l)(1).

Issued on: August 21, 2019
Mark D. Bartlett,
Division Administrator, Montgomery, AL.

[FR Doc. 2019-18699 Filed 8-29-19; 8:45 am]

BILLING CODE 4910-RY-P